DEPARTMENT OF THE TREASURY

Office of Thrift Supervision

[AC-21: OTS Nos. 15954 and H-4467]

Kaiser Federal Bank, Covina, California, and Kaiser Federal Financial Group, Inc., Covina, CA; Approval of Conversion Application

Notice is hereby given that on November 9, 2007, the Office of Thrift Supervision approved the application of Kaiser Federal Bank, Covina, California, to convert to the stock form of organization. Copies of the application are available for inspection by appointment (phone number: 202-906-5922 or e-mail: Public.Info@OTS.Treas.gov) at the Public Reading Room, 1700 G Street, NW., Washington, DC 20552, and the OTS West Regional Office, Pacific Plaza, 2001 Junipero Serra Boulevard, Suite 650, Daly City, California 94014-1976.

Dated: November 9, 2007.
By the Office of Thrift Supervision.
Sandra E. Evans,
Federal Register Liaison.

[FR Doc. 07-5714 Filed 11-15-07; 8:45 am]

BILLING CODE 6720-01-M